Title 3—

The President

Proclamation 8797 of April 9, 2012

National Volunteer Week, 2012

By the President of the United States of America

A Proclamation

Our Nation has been profoundly shaped by ordinary Americans who have volunteered their time and energy to overcome extraordinary challenges. From the American Revolution and the Seneca Falls Convention to the everyday acts of compassion and purpose that move millions to make change in their communities, our Nation has always been at its best when individuals have come together to realize a common vision. As we continue to pursue progress, service and social innovation will play an essential role in achieving our highest ambitions—from a world-class education for every child to an economy built to last. During National Volunteer Week, we pay tribute to all who give of themselves to keep America strong, and we renew the spirit of service that has enriched our country for generations.

That spirit lives on today in countless acts of service around our country. When one of the deadliest tornados in our Nation’s history touched down in Joplin, Missouri, in May 2011, thousands of volunteers stepped forward to serve their fellow citizens. They turned a university into a hospital. They repurposed doors for stretchers. They rushed food to those in need and filled trucks with donations. To date, they have committed more than half a million hours to bringing support and shelter to a community during a time of profound hardship and heartache. In Joplin and across America, we see the transformative power of service—to unite, to build, to heal.

My Administration remains steadfast in our commitment to empower more Americans with tools to shape their communities. During my first 100 days in office, I was proud to sign the Edward M. Kennedy Serve America Act, a landmark national service law that laid out a strategy to link service with innovation, established the groundbreaking Social Innovation Fund, and charted the expansion of AmeriCorps. Last month, we launched FEMA Corps, a new service corps that will enhance our national capacity for disaster response and prepare its members for careers in emergency management. Through United We Serve and national service days, we continue to connect individuals young and old to new opportunities to reinvent their world through service—from fighting hunger and expanding access to healthy, affordable food to mentoring young people and fostering literacy. In all of these efforts, we are reminded how volunteer work can expand opportunity not only for those in need, but also for those who give. Service can teach valuable skills that pave the way to long-term employment and stay with volunteers throughout their careers and lives.

Service is a lifelong pursuit that strengthens the civic and economic fabric of our Nation. With every hour and every act, our lives are made richer, our communities are drawn closer, and our country is forged stronger by the dedication and generous spirit of volunteers. I encourage every American to stand up and play their part—to put their shoulder up against the wheel and help change history’s course. To get started on a project near you, visit www.Serve.gov.

NOW, THEREFORE, I, BARACK OBAMA, President of the United States of America, by virtue of the authority vested in me by the Constitution and the laws of the United States, do hereby proclaim April 15 through April 21, 2012, as National Volunteer Week. I call upon all Americans to observe this week by volunteering in service projects across our country and pledging to make service a part of their daily lives.

IN WITNESS WHEREOF, I have hereunto set my hand this ninth day of April, in the year of our Lord two thousand twelve, and of the Independence of the United States of America the two hundred and thirty-sixth.

[FR Doc. 2012-9017

Filed 4-11-12; 11:15 am]

Billing code 3295-F2-P